DEPARTMENT OF ENERGY

Federal Energy Regulatory Commission

[Docket No. MG03-1-000]

Northern Natural Gas Company; Notice of Filing

November 27, 2002.

On October 10, 2002, Northern Natural Gas Company filed its revised standards of conduct under part 161 of the Commission's regulations, 18 CFR part 161.

Northern Natural Gas Company states that it served copies of the filing on all customers and interested state commissions.

Any person desiring to be heard or to protest said filing should file a motion to intervene or protest in this proceeding with the Federal Energy Regulatory Commission, 888 First Street, NE., Washington, DC, 20426, in accordance with rules 211 and 214 of the Commission's rules of practice and procedure. (18 CFR 385.211 or 385.214) All such motions to intervene or protest should be filed on or before December 12, 2002. Protests will be considered by the Commission in determining the appropriate action to be taken but will not serve to make protestants parties to the proceeding. Any person wishing to become a party must file a motion to intervene. Copies of this filing are on file with the Commission and are available for public inspection. This filing may also be viewed on the web at http://www.ferc.gov, using the “FERRIS” link. Enter the docket number excluding the last three digits in the docket number filed to assess the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-30710 Filed 12-3-02; 8:45 am]

BILLING CODE 6717-01-P